ENVIRONMENTAL PROTECTION AGENCY

40 CFR Chapter I

[EPA-HQ-OPPT-2008-0627; FRL-8386-3]

RIN 2070-AJ44

Formaldehyde Emissions From Pressed Wood Products

AGENCY: Environmental Protection Agency (EPA).

ACTION: Advance notice of proposed rulemaking and notice of public meetings.

SUMMARY: On March 24, 2008, EPA received a Toxic Substances Control Act (TSCA) section 21 petition from numerous organizations and individuals concerned about risks to human health and the environment from exposure to formaldehyde in composite wood products, specifically hardwood plywood, particleboard, and medium density fiberboard. In response to that petition, EPA decided to initiate a proceeding to investigate whether and what type of regulatory or other action might be appropriate to protect against risks posed by formaldehyde emitted from these and other pressed wood products. This document commences that proceeding by describing EPA's initial steps in that investigation and requesting comment, information, and data relating to formaldehyde emissions from pressed wood products. This document also announces five public meetings that EPA has scheduled in order to obtain additional stakeholder input.

DATES: Comments must be received on or before February 2, 2009. For public meeting information, see Unit III.A.

ADDRESSES: Submit your comments, identified by docket identification (ID) number EPA-HQ-OPPT-2008-0627, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2008-0627. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2008-0627. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA’s public docket, visit the EPA Docket Center homepage at http://www.epa.gov/epahome/dockets.htm.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Linter, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Cindy Wheeler, National Program Chemicals Division, Office of Pollution Prevention and Toxics, Environmental Protection Agency, 1200 Pennsylvania Ave., NW., Washington, DC 20460-0001; telephone number: (202) 566-0484; e-mail address: wheeler.cindy@epa.gov.

SUPPLEMENTARY INFORMATION:

I. General Information

A. Does this Action Apply to Me?

This document is directed to the public in general. However, this document may be of particular interest to the following entities:

• Veneer, plywood, and engineered wood product manufacturing (NAICS code 3212).

• Manufactured home (mobile home) manufacturing (NAICS code 321991).

• Prefabricated wood building manufacturing (NAICS code 321992).

• All other basic organic chemical manufacturing (NAICS code 325199), e.g., formaldehyde manufacturing.

• Furniture and related product manufacturing (NAICS code 337).

• Furniture merchant wholesalers (NAICS code 42321).

• Lumber, plywood, millwork, and wood panel merchant wholesalers (NAICS code 42331).

• Other construction material merchant wholesalers (NAICS code 423390), e.g., merchant wholesale distributors of manufactured homes (i.e., mobile homes) and/or prefabricated buildings.

• Furniture stores (NAICS code 4421).

• Building material and supplies dealers (NAICS code 4441).

• Manufactured (mobile) home dealers (NAICS code 45393).

• Motor home manufacturing (NAICS code 336213).

• Travel trailer and camper manufacturing (NAICS code 336214).

• Recreational vehicle (RV) dealers (NAICS code 441210).

• Recreational vehicle merchant wholesalers (NAICS code 423110).

• Plastics material and resin manufacturing (NAICS code 325211).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. Basic Information

Formaldehyde is a colorless, strong-smelling gas. Commonly used as a preservative in medical laboratories and mortuaries, formaldehyde is also found in other products such as chemicals, pressed wood products (e.g., particleboard, fiberboard, and plywood), household products, glues, permanent press fabrics, and paper product coatings. Formaldehyde is widely used as a fungicide, germicide, and disinfectant. It is also a by-product of combustion and certain other natural processes.

Although there may be many sources of formaldehyde in air inside homes, including various household products, cigarette smoke, and un-vented, fuel-burning appliances (gas stoves, kerosene space heaters), the most significant sources of formaldehyde are likely to be pressed wood products made using adhesives that contain urea-formaldehyde (UF) and other formaldehyde-based resins. Pressed wood products typically made with such resins for indoor use include, but are not limited to: Particleboard (used as sub-flooring and shelving and in cabinetry and furniture); hardwood plywood paneling (used for decorative wall covering and used in cabinets and furniture); and medium density fiberboard (used for drawer fronts, cabinets, and furniture tops). Medium density fiberboard contains a higher resin-to-wood ratio than any other UF pressed wood product and is generally recognized as being the highest formaldehyde-emitting pressed wood product. Other pressed wood products include waferboard, oriented strandboard, hardboard, laminated veneer lumber, and parallel strand lumber.

Formaldehyde is both an irritant and a probable human carcinogen. Depending on concentration, it is well recognized that formaldehyde can be an eye, nose, and throat irritant, even when exposure is of relatively short duration. In the indoor environment, sensory reactions and various symptoms as a result of mucous membrane irritation are potential effects, and, while there are large individual differences in the general population, the differences may be even greater when sensitive people are included in an analysis (Ref. 1). EPA acknowledges that there are uncertainties relating to irritation response levels in humans. As noted in Unit IV.C. of the June 27, 2008 Federal Register notice discussed in Unit II.B.2. of this document, EPA is currently conducting an irritation hazard characterization that could be used to evaluate possible regulatory and other actions to address formaldehyde emissions from pressed wood products (Ref. 2).

In 1991, EPA classified formaldehyde as a probable human carcinogen, “based on limited evidence in humans, and sufficient evidence in animals,” and derived an inhalation unit risk factor for assessing formaldehyde cancer risk (Ref. 3). As discussed in the June 27, 2008 Federal Register notice, the assessment and modeling procedure used to develop EPA's cancer risk assessment is not based on the most current information. EPA's Office of Research and Development (ORD) is currently engaged in a reassessment of the potential cancer and non-cancer risks of formaldehyde through the ORD Integrated Risk Information System (IRIS) program. As a result of the IRIS reassessment process, EPA may determine that the appropriate cancer unit risk is higher or lower than the 1991 value after considering the currently available scientific information, including human data.

ORD and OPPTS are collaborating on developing an EPA IRIS assessment for non-cancer effects, including an irritation hazard characterization, of formaldehyde. This assessment will be expedited and prepared separately from the formaldehyde IRIS cancer reassessment. If the jointly-developed non-cancer assessment is peer-reviewed and completed in a timely manner, OPPTS will use it to inform its decision-making as part of a rulemaking under TSCA. The Agency's assessment process will include the appropriate external peer review, which will offer opportunities for public comment on the underlying science.

EPA also intends to commission the National Academy of Sciences to conduct a comprehensive review of the available scientific data on formaldehyde. The Agency believes that this additional analysis and advice will further strengthen the scientific basis of its understanding of formaldehyde risks.

Formaldehyde is also one of 187 compounds listed under section 112(b)(1) of the Clean Air Act (CAA) as a hazardous air pollutant (HAP). The CAA requires EPA to regulate emissions of HAPs from a published list of industrial source categories. The EPA has developed lists of major and area source categories that must meet control technology requirements for HAPs and has developed (or is developing) standards for these source categories. The plywood and composite wood products (PCWP) National Emission Standards for Hazardous Air Pollutants (NESHAP) is one of these standards (Ref. 4). The PCWP NESHAP controls emissions of formaldehyde and other HAPs from various process units (e.g., dryers and presses) at PWCP facilities.

B. The Section 21 Petition

On March 24, 2008, 25 organizations and approximately 5,000 individuals petitioned EPA under section 21 of TSCA to use section 6 of TSCA to adopt a recently-promulgated California regulation concerning emissions of formaldehyde from three types of products California described as composite wood products: Hardwood plywood, particleboard, and medium density fiberboard (Ref. 5). The petitioners asked EPA to assess and reduce the risks posed by formaldehyde emitted from these products by exercising its authority under TSCA section 6 to adopt and apply nationally the California formaldehyde emissions regulation for these composite wood products. In addition, petitioners requested EPA to extend this regulation to include composite wood products used in manufactured homes.

1. The California Air Resource Board's Airborne Toxics Control Measure. In 2007, the California Air Resource Board (CARB) approved an Airborne Toxics Control Measure (ATCM) for formaldehyde emissions from hardwood plywood, particleboard, and medium density fiberboard (Ref. 6). The ATCM was approved on April 18, 2008 by the California Office of Administrative Law and the first emission standards will take effect on January 1, 2009. The ATCM requires manufacturers to meet formaldehyde emission standards for any of these products that are sold, offered for sale, supplied, or manufactured for use in California. The ATCM also requires that compliant products be used in finished goods sold, offered for sale, supplied or manufactured for sale in California. The ATCM does not apply to hardwood plywood and particleboard materials when installed in manufactured homes subject to regulations promulgated by the United States Department of Housing and Urban Development (HUD). Seventeen percent of new construction and eight percent of existing manufactured housing are built according to HUD's regulations (Ref. 7).

The ATCM's “Phase 1” emission standards for hardwood plywood, particleboard, and medium density fiberboard will take effect on January 1, 2009. More stringent “Phase 2” standards will be phased in between 2010 and 2012. The ATCM does not allow manufacturers to meet these emission standards using barrier methods. CARB anticipates that manufacturers will meet the “Phase 1” standards by using resin technologies that are similar to those commonly in use today. To meet the “Phase 2” standards, CARB believes that manufacturers will likely use modified current day urea-formaldehyde (UF), no-added formaldehyde (NAF), or ultra-low-emitting formaldehyde (ULEF) resin systems.

The ATCM requires manufacturers of covered products to demonstrate compliance with the emission standards by being certified by an independent party known as a “third party certifier.” Third party certifiers must be approved by CARB and must follow specified requirements to verify that a manufacturer's production meets applicable formaldehyde emission standards. Once their product has been approved by CARB, manufacturers who use NAF or some ULEF resin systems are exempt from ongoing testing requirements. Manufacturers who use other ULEF resin systems may be granted a reduction in frequency for ongoing testing. Manufacturers would also be required to label their covered products to identify them as meeting either the “Phase 1” or “Phase 2” emission standards, or as being made with either NAF or ULEF resins. The ATCM also imposes recordkeeping requirements on manufacturers to document compliance.

The ATCM requires distributors, importers, fabricators, and retailers to purchase and sell panels and finished goods that comply with applicable formaldehyde emission standards. They must take precautions, such as communicating with their suppliers, to ensure that the products they purchase are in compliance with applicable emission standards. Distributors and importers must maintain records documenting compliance and fabricators must also label their finished goods as compliant with the applicable standards.

2. EPA's response to the petition. Although a substantial amount of information was submitted by reference with the petition or otherwise available to the Agency, EPA determined that the available information was not sufficient to support an evaluation of whether formaldehyde emitted from hardwood plywood, particleboard, and medium density fiberboard presents or will present an unreasonable risk to human health (including cancer and non-cancer endpoints) under TSCA section 6. As discussed in detail in the Federal Register notice announcing EPA's response to the petition, EPA's evaluation of the data provided by the petitioners revealed significant information gaps that would need to be filled to support an evaluation of whether use of formaldehyde in these products presents or will present an unreasonable risk under TSCA section 6 (Ref. 2).

Nevertheless, after considering the information presented by the petitioners (including information in the California administrative record), information submitted by commenters, and other available information, EPA decided to initiate a proceeding to investigate whether and what type of regulatory or other action might be appropriate to protect against risks posed by formaldehyde emitted from the products covered by the CARB ATCM as well as other pressed wood products. At the conclusion of this investigation, EPA anticipates determining whether EPA should take action, which may include regulatory action under TSCA section 6(a), action under TSCA section 6(b), voluntary or regulatory (e.g., under TSCA section 6) application of a voluntary consensus standard, or other approaches. While evaluating options, EPA intends to engage the public in this process and coordinate efforts with other interested agencies. The purpose of this document is to outline the steps EPA plans to take as part of this investigation, including opportunities for public participation, and to request comment and data in particular areas where available information is lacking.

III. Public Participation

With this document, EPA is announcing its plans to involve stakeholders in gathering information to inform EPA's determination of the scope of the problem and EPA's decision on the best ways to address risks that may be posed by formaldehyde emissions from pressed wood products. EPA is beginning the public participation process by soliciting stakeholder assistance in obtaining a better understanding of the available control technologies and approaches, current and future industry practices, and implementation of the CARB ATCM. This document contains numerous specific requests for comment, information, and data on topics of current interest to EPA. Stakeholders are encouraged to respond to these requests and to provide comment on any other matters pertaining to the content of this document.

In addition, EPA is planning to hold five half-day public meetings in January of 2009. The purpose of these meetings is to receive stakeholder comments on the issue of formaldehyde emissions from pressed wood products, including the questions described in this document, and on future opportunities for public participation on this issue.

A. Meeting Dates and Locations

The meetings will be held as follows:

1. In Research Triangle Park, NC on January 8, 2009, from 1 p.m. to 5 p.m. The meeting will be held at the Environmental Protection Agency, Main Campus Auditorium (C111B/C), 109 TW Alexander Drive, Research Triangle Park, North Carolina 27711.

2. In Portland, OR on January 13, 2009, from 1 p.m. to 5 p.m. The meeting will be held at the State Public Health Building, 800 NE Oregon St., Room 1B, Portland, Oregon 97232.

3. In Chicago, IL on January 15, 2009, from 8:30 a.m. to 12:30 p.m. The meeting will be held at the Ralph Metcalfe Federal Building, Room 328, 77 West Jackson Blvd., Chicago, IL 60604.

4. In Dallas, TX on January 26, 2009, from 1 p.m. to 5 p.m. The meeting will be held at the Environmental Protection Agency, 1445 Ross Avenue, 12th Floor, Dallas,Texas 75202.

5. In Washington, DC on January 29, 2009, from 1 p.m. to 5 p.m. The meeting will be held at the Environmental Protection Agency, EPA East, Room 1153, 1201 Constitution Ave., Washington, DC 20460.

B. Meeting Procedures

For additional information on the scheduled meetings, contact the technical person listed under FOR FURTHER INFORMATION CONTACT. The meetings will be open to the public. Oral presentations or statements by interested parties will be limited to 10 minutes. Interested parties are encouraged to contact the technical person at least 10 days prior to the meeting to schedule presentations. Since seating for outside observers may be limited, those wishing to attend the meetings as observers are also encouraged to contact the technical person at the earliest possible date, but no later than 10 days before the meeting, to ensure adequate seating arrangements.

To request accommodation of a disability, please contact the technical person listed under FOR FURTHER INFORMATON CONTACT, preferably at least 10 days prior to the meeting, to give EPA as much time as possible to process your request.

IV. Investigation Overview and Specific Requests for Comment, Information, and Data

The first part of this Unit describes the elements of EPA's investigation and includes specific requests for comments, information, and data that may pertain to each investigation element. The second part of this Unit describes each of the various tools that EPA may use to address risks that may be posed by formaldehyde emissions from pressed wood products, along with requests for comment on these and other regulatory and voluntary approaches.

A. Investigation Elements and Associated Requests for Comment, Information, and Data

1. Industry profile. EPA seeks to obtain a better understanding of the available technologies to control formaldehyde emissions from pressed wood products, industry practices, and implementation of the CARB ATCM. EPA is planning an industry survey to supplement the information that EPA is requesting in this document. EPA requests commenters on this notice to provide information or data they may have regarding the pressed wood product industry. To the extent that the requested information was already submitted in response to EPA's request for comment on the TSCA section 21 petition, or is already publicly available and summarized in prior reports, such as those prepared in the late 1990s to support development of the PCWP NESHAP (Refs. 8, 9, 10, 11), EPA requests that commenters note such reports and whether the reports remain accurate with respect to new developments or changes that have occurred over time. EPA is particularly interested in responses to the following questions:

a. Pressed wood products. EPA has identified the following categories of pressed wood products that may be manufactured using urea-formaldehyde (UF) resin and other formaldehyde-based resins: Particleboard, medium density fiberboard, hardwood and softwood plywood, waferboard, oriented strandboard, hardboard, parallel strand lumber, laminated veneer lumber, prefabricated I-joists, and glued laminated beams (Ref. 12).

i. Are there other pressed wood products that may contain formaldehyde-based resins? What are these products?

ii. The CARB ATCM covers only three types of pressed wood products: Particleboard, medium density fiberboard, and hardwood plywood. Are there other specific pressed wood products or categories of pressed wood products that have been demonstrated to result in comparable or higher formaldehyde emissions? What emission levels have been reported and what percentages of these products have or may have such emissions? What companies produce or import such products? What are the applications for these products?

iii. What are the end-uses and quantities for each type of pressed wood product? In particular, EPA would like to receive information on the production volume (expressed as square feet or some comparable value) for each type of pressed wood product that is used in each end-use market, such as the amount of hardwood plywood used in cabinetry, furniture, paneling, door panels/skins, etc.

iv. To what degree are domestic and imported products interchangeable?

b. Resins used in manufacturing pressed wood products. Formaldehyde-based resins may be used in the manufacture of pressed wood products. The resins may serve to bind together raw wood materials, such as wood shavings, flakes, wafers, chips, particles, veneers, fibers, strands, or sawdust, to form the pressed wood product. There are several types of formaldehyde-based resins. Additionally, there are alternative resins that are not formaldehyde-based. The types of resins commonly used in pressed wood products include the following: Urea-formaldehyde (UF) resin, phenol-formaldehyde (PF) resin, melamine-formaldehyde (MF) resin, melamine-urea-formaldehyde (MUF) resin, isocyanate resin, polydiphenylmethane diisocyanate (pMDI) resin, polyvinyl acetate (PVA), and soy-based resin. Less commonly-used resins include: Ammonia urea formaldehyde (AUF), phenol resorcinol formaldehyde (PRF), phenol urea formaldehyde (PUF), phenol urea formaldehyde tannin (PUFT), and resorcinol formaldehyde (RF).

i. What types of resins, whether formaldehyde-based or not, are or may be used in the manufacture of each type of pressed wood product listed in Unit IV.A.1.a?

ii. What are the typical concentrations of free formaldehyde in each formaldehyde-based resin type and in each type of pressed wood product? (The term “free formaldehyde” refers to unreacted formaldehyde and formaldehyde that may become available from depolymerization of the resin.) EPA is also interested in information on the total quantity and typical mole ratio of the components of each type of resin used for each type of pressed wood product.

c. Evaluation of manufacturing processes. EPA is seeking detailed information on the manufacturing processes for each type of pressed wood product, including the operating parameters and conditions, unit operations, and equipment.

i. EPA is interested in descriptions of all of the factors, including the composition of raw materials and unit operating parameters, at each step in the manufacturing process that may affect the formaldehyde content of finished pressed wood products. EPA requests descriptions of the methods, including unit operations and operating procedures, used for controlling the content of formaldehyde in pressed wood products.

ii. EPA requests any available information on the overall mass balance and the formaldehyde mass balance per unit operation.

iii. EPA is interested in any available information on optimization studies of the factors affecting the formaldehyde content of finished pressed wood products. In general, an optimization study is a study of the means to improve the economic, environmental, health or safety performance of a chemical process. Improvements in one or more specific performance areas may have adverse impacts on other performance areas. In this context, EPA is requesting information on studies on the means of altering the process used to manufacture pressed wood products for the purpose of reducing emissions of formaldehyde from such products. EPA is interested in any such information, including the results from bench scale experimental studies and engineering design studies with pilot plant or commercial production test run data.

iv. What are the quality control measures for the control of formaldehyde emissions from pressed wood products undertaken at manufacturing facilities? How often, to what extent, and why do these measures fail?

d. Product alternatives. EPA requests comment, data, and information on the potential alternatives that would reduce formaldehyde emissions from pressed wood products. EPA is also interested in the performance characteristics of, and the costs associated with using, alternative chemicals and processes to manufacture products that meet the CARB ATCM standards.

i. What low- or no- formaldehyde emitting substitutes exist? What percentage of the pressed wood market uses them? What percentage of the national pressed wood market, exclusive of California, is expected to use them after 2012 (when the CARB ATCM's Phase 2 emission limits have become effective), and in which products are they expected to be used?

ii. If a pressed wood products manufacturer were interested in reducing formaldehyde emissions, would the manufacturer substitute another resin (or resins) or modify the resins currently used? Which resins? Why?

iii. Do control technologies exist to reduce the levels of free formaldehyde in existing resin types? If so, what is the estimated effectiveness of each control technology? What is the basis for the effectiveness estimate?

iv. EPA has begun evaluating various resin formulations that have been manufactured to improve or eliminate formaldehyde emissions. EPA seeks information, including resin formulation, human health hazard, process, product performance, and cost information, from manufacturers who use or intend to use resins identified in the following list, manufacturers who use or intend to use other resins, and manufacturers who use or intend to use other methods to meet the CARB ATCM's Phase 1 and Phase 2 standards:

• Ethenol homopolymer (CASRN: 9002-89-5)

• Isocyanic acid, polymethylenepolyphenylene ester (CASRN: 9016-87-9)

• Urea, polymer with formaldehyde and 1,3,5-triazine-2,4,6-triamine (CASRN: 25036-13-9)

• Urea, polymer with formaldehyde and phenol (CASRN: 25104-55-6)

• Hexanedioic acid, polymer with N1-(2-aminoethyl)-1,2-ethanediamine and 2-(chloromethyl)oxirane (CASRN: 25212-19-5)

• Urea, polymer with formaldehyde, phenol and 1,3,5-triazine-2,4,6-triamine (CASRN: 25212-25-3)

• Urea, polymer with formaldehyde and methanol (CASRN: 37999-54-5)

• Poly[oxy(methyl-1,2-ethanediyl)], a-hydro-ω-hydroxy-, ether with 2-ethyl-2-(hydroxymethyl)-1,3-propanediol (3:1), polymer with 1,1'-methylenebis[4-isocyanatobenzene] (CASRN: 57596-50-6)

• Tannins, polymers with formaldehyde and phenol (CASRN: 68910-49-6)

• PureBond (Identity has been claimed confidential, but it is known to be soy-based)

v. What testing has been done to determine the effectiveness of the different barrier technologies (e.g., melamine sheets, paper coatings, varnish or paint treatments, films, foils) at lowering formaldehyde emissions over the lifetime of the coated pressed wood product? What are the results of that testing? The Agency is aware that some barrier methods need additional treatment of the remaining uncoated surfaces of the pressed wood products (i.e., edge treatments with scavenger coatings) to work effectively. Has the use of barrier treatment or combination treatment eliminated the potential for formaldehyde emissions or simply deferred the release of formaldehyde, perhaps until the end of the wood products' life cycle? Are data available to show that the efficient use of scavenger chemicals is effective in permanently reducing formaldehyde emissions?

vi. What product substitutes exist for the products covered by the CARB ATCM, and what product substitutes exist for other pressed wood products? For example, oriented strandboard might be used in place of particleboard, or solid lumber might be used in place of fiberboard. What are the performance characteristics of and the costs associated with using product substitutes?

e. Reaction to the CARB ATCM. For companies that manufacture, import, fabricate, wholesale, or retail hardwood plywood, particleboard, or medium density fiberboard for sale outside of California:

i. Do you intend on distributing two sets of products, one that is compliant with the CARB ATCM (for sale in California) and another that is not CARB-compliant (for sale outside of California)? Do you intend to sell a single set of products (inside and outside of California) that comply with the CARB ATCM's Phase 2 standards? What factors are influential in making this decision (e.g., where your company is located, where your clients are located or sell their products, how large your company is)?

ii. If you intend on manufacturing hardwood plywood, particleboard, or medium density fiberboard products that comply with the CARB ATCM's Phase 2 standards, what resin system(s), additives, process modifications, or post-treatment did you previously use and what do you anticipate using in order to comply with the CARB ATCM?

iii. If you do not intend on selling products that comply with the CARB ATCM's Phase 2 standards, why not? What factors influence your decision of whether or not to sell products that comply with the CARB ATCM's Phase 2 standards?

iv. If you do not intend on selling products that comply with the CARB ATCM's Phase 2 standards, what level of formaldehyde emissions do you anticipate that your products will have? For example, will they meet the CARB ATCM's Phase 1 standards?

v. What are the key factors in determining the cost of complying with the CARB ATCM, and how do these vary across plants? For example, key factors may include whether the forming line in a pressed wood plant uses cauls or is caulless, or whether the presses are single opening, multi-opening, or continuous.

vi. Are data available on whether or how formaldehyde emission rates or compliance with the CARB ATCM may differ between domestic and imported products?

2. Exposure assessment. EPA has also initiated development of an exposure assessment for formaldehyde emissions from pressed wood products. Exposure assessments identify the pathways by which toxic substances may reach individuals, estimate how much of a substance an individual is likely to be exposed to (including the frequency and duration of exposure), estimate time-activity patterns, and estimate the number of individuals likely to be exposed. While this exposure assessment will primarily focus on consumer exposures, including children's exposures, EPA also plans to evaluate occupational exposures and exposures to emissions from manufacturing operations to assess benefits of any action developed to reduce consumer exposures to formaldehyde emissions from pressed wood products. EPA is reviewing the available data for this purpose, including the data submitted by reference with the TSCA section 21 petition. Commenters are requested to submit any available information or data they may have that pertains to formaldehyde exposures and pressed wood products. EPA is particularly interested in the following:

a. Product emissions. i. What are the emissions profiles (e.g., mass of formaldehyde emitted over time, decay rate over time, and measurement method and parameters) of pressed wood-products containing formaldehyde-based resins on a national level? To the extent such information is available, EPA is interested in emissions profiles for each of the various types of resins, pressed wood products, and consumer goods.

ii. What data are available on the emissions profiles of the pressed wood products that could be used as substitutes?

b. Children's furniture. i. What is the surface area (square feet) of pressed wood product per unit of furniture that is used by children, such as baby cribs, changing tables, and toddler beds? What type of pressed wood product is used (e.g., UF-bonded hardwood plywood, soy-bonded hardwood plywood, UF fiberboard, MDI fiberboard) in children's furniture? What part of the furniture unit contains the pressed wood product? On a national level, how many units of children's furniture containing pressed wood product are sold?

ii. Are there any studies that have measured the formaldehyde exposure of children sleeping on furniture containing pressed wood products? What are the results? Are there any models available to estimate exposures from such microenvironments? Are there any data available on time-activity pattern data or air exchange rates specific for this scenario?

c. Other items. i. What are the current pressed wood characterizations and emission profiles of other pressed wood items, such as kitchen cabinets, entertainment centers, office furniture, etc.?

ii. What amount of pressed wood product goes into the construction of these types of products? How much of it is pressed wood product made with UF or other formaldehyde-based resins? Do imported cabinets and other furniture contain more or less pressed wood than similar domestic products?

iii. What amount (square feet) of pressed wood product will be installed into a kitchen during both minor renovations (refacing kitchen countertops and cabinets) and extensive renovations (where all countertops and cabinets are replaced)? Are there other renovation projects that typically involve a significant amount of pressed wood product? Which ones?

iv. Are there any studies that have measured the formaldehyde exposure of occupants to furniture and/or cabinets containing pressed wood products? Are there any models available to estimate exposures from such microenvironments? Are there any data available on time-activity pattern data or air exchange rates specific for this scenario?

d. Emissions from manufacturing operations. The manufacture of pressed wood products may release formaldehyde into the environment. Formaldehyde points of release may include, but are not limited to, the following: Fugitive and point source air emissions from refining, preheating, humidifying and/or drying of the wood materials; pressing and/or cooling of the wood product after adhesive application; finishing operations (aging, trimming, sanding, sorting, and storing); container residue from containers used to transport resins and/or adhesives; equipment cleanup wastes; combustion of formaldehyde-containing wood scraps, such as for energy recovery; and other handling of process or product wastes that contain formaldehyde. EPA requests information or data that commenters may have on emissions from pressed wood product manufacturing operations. To the extent that the requested information is already publicly available and summarized in prior reports, such as those prepared in the late 1990s to support development of the PCWP NESHAP (Refs. 6, 7, 8, 9), EPA requests that commenters note such reports and comment on whether the reports remain accurate with respect to new developments or changes that have occurred over time. EPA plans to evaluate exposures to emissions from manufacturing operations to assess benefits of any action developed to reduce consumer exposures to formaldehyde emissions from pressed wood products.

i. EPA is requesting information and data on all points of formaldehyde releases, including the quantity of such releases and the media to which formaldehyde is released, during the manufacture of each type of pressed wood product.

ii. EPA is interested in information on any control technologies, such as on-site wastewater treatment, filtration systems, or air pollution control devices (e.g., regenerative thermal oxidizers, biofilters, steam separation, scrubbers, ionic liquid technology), used to mitigate the environmental release of formaldehyde associated with the manufacture of pressed wood products, including estimates of the effectiveness of each control technology and the basis for each effectiveness estimate.

e. Occupational exposure. During manufacturing of pressed wood products, occupational exposure to formaldehyde may occur to workers who are in contact with, or in proximity to, the manufacturing or fabricating process, raw materials, or pressed wood products. EPA plans to evaluate occupational exposures to assess benefits of any action developed to reduce consumer exposures to formaldehyde emissions from pressed wood products. EPA is particularly interested in the potential for alternative chemicals and processes to reduce occupational exposures to formaldehyde during pressed wood product manufacture, processing, and distribution. EPA requests information on all worker activities in pressed wood manufacturing and fabricating that may result in occupational exposure to formaldehyde.

i. For each worker activity, EPA is interested in the duration of exposure per day and the frequency of the activity in days per year. For example, in a particular company's manufacturing process, two workers may empty containers of formaldehyde-containing resin into an applicator. For this company, this activity may take two hours per day and occur 250 days per year.

ii. EPA requests any recent information (i.e., from the past 5 years), including studies, on worker exposures to formaldehyde during pressed wood product manufacturing processes, as well as any information on control technologies and/or personal protective equipment (PPE) that are used to mitigate occupational exposures of formaldehyde.

iii. EPA also requests comparable information on exposure to chemicals (e.g., regulated by EPA or the Occupational Safety and Health Administration) that are used in alternative resins or that are present as unreacted monomers in alternative resins (such as methylene diisocyanate (MDI), vinyl acetate monomer (VAM), and epichlorohydrin)).

f. Emissions measurement and modeling. EPA is interested in information on measuring formaldehyde emissions from pressed wood products and modeling exposures to these emissions.

i. What are the state of the art methods for measuring formaldehyde releases from pressed wood products? For each method, EPA requests information on method detection limits, sample preparation, and product representation. EPA is interested in the advantages and disadvantages of each method as compared to other available methods.

ii. Are there any air monitoring data, other measured results, calculations, or verified/validated models that can be used for real life (in-home) exposure analysis? EPA is also interested in details as to the methods and approaches used in such studies.

g. Building-specific exposure information. EPA is interested in exposure information that may be specific to formaldehyde emissions from pressed wood products installed in various types of buildings, especially manufactured buildings or structures not regulated by HUD, such as park homes or trailers, travel trailers, portable classrooms, and temporary office trailers.

i. What types and amounts of pressed wood products are used in each such type of building or structure?

ii. What are the occupancy rates (e.g., number of people, days per year of occupancy), exposed population, time-activity patterns, and air exchange rates of each such type of building or structure?

iii. What monitoring studies or other exposure information are available for formaldehyde emissions from pressed wood products installed in these types of buildings or structures?

3. Economic analysis. As discussed in Unit IV.B. of this document, EPA is considering whether regulatory and/or voluntary actions are necessary to address formaldehyde emissions from pressed wood products. One of the options EPA plans to consider is whether it is appropriate to promulgate a rule under TSCA section 6(a). In promulgating any rule under TSCA section 6(a) with respect to a chemical substance, TSCA section 6(c) requires the Administrator to consider (among other factors), the benefits of such substance or mixture for various uses and the availability of substitutes for such uses, and the reasonably ascertainable economic consequences of the rule, after consideration of the effect on the national economy, small business, technological innovation, the environment, and public health.

These considerations may be informative whether or not EPA proceeds under TSCA section 6(a). Therefore, EPA requests information that it can use in preparing an economic analysis. Such information includes the cost and performance characteristics of substitute technologies to control formaldehyde emissions from pressed wood products; the extent to which substitute technologies are drop-in technologies (i.e., can be used with existing equipment in a plant or require modifications to existing equipment); the supply and demand elasticities for markets potentially affected by action on formaldehyde in pressed wood products, including the markets for pressed wood, fabricated goods made from pressed wood (such as furniture, doors, kitchen cabinets, etc.), and resins or adhesives used in pressed wood; and information needed to assess the benefits of controlling exposures to formaldehyde from pressed wood products (such as the magnitude of exposure, the dollar value of the health effects resulting from such exposures, and the dollar value of any benefits not related to health endpoints, such as reduced exposure to unwanted odors).

B. Regulatory Authorities and Voluntary Options

The previous Unit of this notice describes the assessments EPA is undertaking in order to make a determination whether regulatory and/or voluntary action is needed to address risks that may be posed by formaldehyde emissions from pressed wood products. While EPA has not yet made this determination, EPA recognizes that stakeholders are likely to have valuable insights into the tools available to address risks. EPA also believes that it is most useful to obtain these insights early in the investigation process. This Unit briefly describes two of the regulatory authorities that EPA could use and requests comment on each. This Unit also asks whether any other regulatory authorities should be considered and seeks input on the possible use of voluntary approaches alone and in connection with regulatory approaches. EPA is particularly interested in comment, information, and data on the strengths and limitations of all of the options available to EPA. Additional specific requests for comment on each approach are included in the description of each approach.

1. TSCA section 6(a). In order to promulgate a rule under TSCA section 6(a), the Administrator must find that “there is a reasonable basis to conclude that the manufacture, processing, distribution in commerce, use, or disposal of a chemical substance or mixture * * * presents or will present an unreasonable risk of injury to health or the environment.” This finding cannot be made considering risk alone. In promulgating any rule under TSCA section 6(a), TSCA section 6(c) requires the Administrator to consider:

• The effects of such substance or mixture on health and the magnitude of the exposure of human beings to such substance or mixture.

• The effects of such substance or mixture on the environment and the magnitude of the exposure of the environment to such substance or mixture.

• The benefits of such substance or mixture for various uses and the availability of substitutes for such uses.

• The reasonably ascertainable economic consequences of the rule, after consideration of the effect on the national economy, small business, technological innovation, the environment, and public health.

If EPA finds that there is a reasonable basis to conclude that one or more activities presents an unreasonable risk, TSCA section 6(a) provides EPA with the authority to:

• Prohibit or limit manufacture, processing, or distribution in commerce;

• Prohibit or limit the manufacture, processing, or distribution in commerce of the chemical above a specified concentration;

• Require adequate warnings and instructions with respect to use, distribution, or disposal;

• Require recordkeeping, monitoring, and testing to ensure compliance with regulations promulgated under this section;

• Prohibit or regulate any manner of commercial use;

• Prohibit or regulate any manner of disposal; or

• Require manufacturers or processors to give notice of the unreasonable risk of injury.

TSCA section 6(a) also provides that the control measure or measures adopted must be the “least burdensome requirements” that adequately protect against the unreasonable risk.

EPA requests comment on the use of TSCA section 6(a) to regulate the manufacture, processing, distribution in commerce, commercial use, or disposal of one or more pressed wood products that contain formaldehyde. EPA is particularly interested in comments on the strengths and weaknesses of the control measures that could be adopted under this section, such as emissions limits or warning labels on pressed wood products.

2. TSCA section 6(b). TSCA section 6(b) specifically addresses quality control issues. EPA believes that TSCA section 6(b) is an available option for addressing formaldehyde risks because the information available to EPA suggests that formaldehyde emissions from some pressed wood products are highly dependent upon the process used to manufacture the products. If EPA has a reasonable basis to conclude that a particular manufacturer or processor is making or producing a chemical substance in such a way that it presents an unreasonable risk of injury to human health or the environment, EPA may order the manufacturer or processor to submit a description of its relevant quality control procedures. If EPA determines that those quality control procedures are inadequate to prevent an unreasonable risk, EPA may order the manufacturer or processor to modify its quality control procedures to the extent necessary to remedy the inadequacy. If EPA determines that a chemical which presents an unreasonable risk has been distributed, EPA may order the manufacturer or processor to notify its customers or the general public, or to replace or repurchase the chemical as necessary to protect health or the environment or any combination of these. Manufacturers and processors subject to a requirement to replace or repurchase must be offered the option to replace or repurchase, and EPA may prescribe the procedures for doing so in each case. Orders to revise procedures, to notify customers or the public, or replace or repurchase chemicals must be issued after an opportunity for a hearing in accordance with section 554 of the Administrative Procedures Act (APA), which provides procedural requirements in cases where an adjudication is required on the record after an opportunity for a hearing.

EPA will evaluate whether it is feasible to use TSCA section 6(b) to address risks that may be posed by formaldehyde emissions from one or more pressed wood products. TSCA section 6(b) is targeted towards controlling the manufacturing processes of individual manufacturers or processors. As such, if EPA determines that emissions from pressed wood products present or will present an unreasonable risk, it may not be feasible or possible to use TSCA section 6(b) to address all such risks. EPA requests comment on the use of TSCA section 6(b) in this manner. In addition, if EPA were to take action under TSCA section 6(b) with respect to domestic manufacturers of pressed wood products, what could EPA do to control formaldehyde emissions from imported pressed wood products or finished goods made from pressed wood products, such as furniture, cabinets, countertops, and flooring?

3. Other regulatory authorities. Based on a preliminary review of the available authorities, EPA believes that the most effective authorities available to address risks that may be presented by formaldehyde emissions from pressed wood products would be TSCA sections 6(a) and 6(b). A number of the commenters on the TSCA section 21 petition appeared to support a national emissions limit for pressed wood products, yet contended that an “unreasonable risk” finding under TSCA section 6 was unjustified. EPA requests comment on other authorities available to EPA that could be used to impose a national emissions limit on these products. EPA also requests comment on other authorities that could be used in other ways to address risks that may be presented by formaldehyde emissions from pressed wood products.

The TSCA section 21 petition contained a request for EPA to apply the CARB ATCM to pressed wood products used in manufactured housing. As discussed in the Federal Register notice responding to the petition, HUD has standards that apply to pressed wood products in manufactured housing. Many petition commenters recommended that HUD continue to exercise jurisdiction over manufactured housing. Some suggested that EPA refer the matter to HUD under TSCA section 9. HUD itself commented on the petition (Ref. 13), stating that it had received a proposal to lower formaldehyde emissions limits from certain products used in the construction of manufactured homes from the Manufactured Housing Consensus Committee (MHCC), a Congressionally-established Federal Advisory Committee. In addition, according to HUD, the MHCC recently received a new proposal from the public to adopt the CARB ATCM standards. HUD stated that it will work with the MHCC to review this new proposal. EPA plans to work collaboratively with HUD to address risks that may be presented from formaldehyde emissions from pressed wood products used in manufactured housing.

4. Voluntary approaches. The National Technology Transfer and Advancement Act (NTTAA) (Pub. L. 104-113, §12(d), 110 Stat. 775, 783 (1996)) directs federal agencies to use voluntary consensus standards in their regulatory activities unless to do so would be “inconsistent with applicable law or otherwise impractical.” Voluntary consensus standards are technical standards, which include materials specifications, test methods, sampling protocols, business practices, and management systems developed or adopted by voluntary consensus standards bodies, both domestic and international. These bodies plan, develop, establish, or coordinate voluntary consensus standards using agreed-upon procedures. The NTTAA also encourages agencies to consult with voluntary consensus standards bodies and participate in the development of such standards when compatible with agency missions, authorities, priorities and budget resources.

Many of the commenters on the TSCA section 21 petition suggested that EPA work cooperatively with the affected industries to develop national standards for formaldehyde emissions from pressed wood products. EPA believes that voluntary initiatives can be useful tools in addressing risks to human health and the environment, and voluntary initiatives may be important components of a strategy to address the formaldehyde emissions that are the subject of this document. Indeed, there already are voluntary consensus standards for formaldehyde emissions, such as the standards developed under the auspices of the American National Standards Institute (ANSI), and voluntary industry compliance programs, such as the Composite Panel Association's Grademark program, that address formaldehyde emissions from some pressed wood products. The Composite Panel Association (CPA), in comments on the petition, observed that the CPA is accredited by ANSI as a standards developer (Ref. 14). The CPA further stated that, on June 3, 2008, the CPA Board of Directors “approved the insertion of the CARB Phase 1 and Phase 2 formaldehyde emission limits” into the new versions of the ANSI standards for Particleboard (ANSI A208.1) and for Medium Density Fiberboard (ANSI A208.2). While a consensus committee must still approve these revised standards, the CPA notes that, when they are finalized, purveyors of these products would be able to reference these standards in their “commercial dealings.” The Hardwood Plywood and Veneer Association (HPVA) likewise noted that they were in the process of revising the ANSI-HPVA national consensus standards for hardwood plywood and engineered hardwood flooring and they were considering including the CARB ATCM emission requirements (Ref. 15).

EPA would be interested in hearing more details from affected industries as to how voluntary national standards could be developed and implemented. EPA is specifically interested in comments that address the following questions:

a. How could EPA encourage compliance with purely voluntary standards, whether currently-existing or newly-developed?

b. How successful are the existing programs at reducing formaldehyde exposures? How could the existing programs be modified to improve the results? Would a new voluntary program be more successful at reducing formaldehyde exposures?

c. How would voluntary programs address imported products?

d. What role could regulatory adoption (e.g., using TSCA section 6) of voluntary consensus standards for formaldehyde emissions play in EPA's oversight of this issue? How would this approach address imported products?

V. References

1. Agency for Toxic Substances and Disease Registry. Toxicological Profile for Formaldehyde. 1999. http://www.atsdr.cdc.gov/toxprofiles/tp111.html

2. EPA. Formaldehyde Emissions from Composite Wood Products; Disposition of TSCA Section 21 Petition; Notice. Federal Register (73 FR 36504, June 27, 2008).

3. EPA, Office of Research and Development. Formaldehyde. Integrated Risk Information System. 1991. http://www.epa.gov/iris/links.htm

4. EPA. National Emission Standards for Hazardous Air Pollutants: Plywood and Composite Wood Products; Final Rule. Federal Register (72 FR 61060, October 29, 2007). http://www.epa.gov/ttn/atw/plypart/fr29oc07.pdf

5. Sierra Club, 25 other organizations, and approximately 5,000 individuals. Letter from Tom Neltner, Sierra Club, to Stephen Johnson, Administrator, Environmental Protection Agency. Re: Citizen Petition to EPA Regarding Formaldehyde in Wood Products. March 2008.

6. California Environmental Protection Agency Air Resources Board. Airborne Toxic Control Measure to Reduce Formaldehyde Emissions from Composite Wood Products. Final Regulation Order. April 2008. http://www.arb.ca.gov/regact/2007/compwood07/compwood07.htm

7. Note to file. July 17, 2008.

8. EPA, Office of Air Quality Planning and Standards (OAQPS). Background Information Document for Proposed Plywood and Composite Wood Products NESHAP. September, 2000.

9. EPA, OAQPS. Memorandum from D. Bullock, K. Hanks, and B. Nicholson, MRI to M. Kissell, EPA/ESD. Summary of Responses to the 1998 EPA Information Collection Request (MACT Survey) — General Survey. April 28, 2000.

10. EPA, OAQPS. Memorandum from K. Hanks and B. Threatt, MRI to M. Kissell, EPA/ESD. Summary of Responses to the 1998 EPA Information Collection Request (MACT Survey)—Engineered Wood Products. January 20, 2000.

11. EPA, OAQPS. Memorandum from K. Hanks, B. Threatt, and B. Nicholson, MRI to M. Kissell, EPA/ESD. Summary of Responses to the 1998 EPA Information Collection Request (MACT Survey)—Hardwood Plywood and Veneer. May 19, 1999.

12. Department of Agriculture, Forest Service; Forest Products Laboratory. Wood Handbook—Wood as an Engineering Material. Gen. Tech. Rep. FPL-GTR-113 (1999). http://www.fpl.fs.fed.us/documnts/fplgtr/fplgtr113/fplgtr113.pdf

13. Department of Housing and Urban Development, Office of Regulatory Affairs and Manufactured Housing. (May 12, 2008).

14. Composite Panel Association. (May 12, 2008).

15. Hardwood Plywood and Veneer Association. (May 12, 2008).

VI. Statutory and Executive Order Reviews

Under Executive Order 12866, entitled “Regulatory Planning and Review” (58 FR 51735, October 4, 1993), this action was submitted to the Office of Management and Budget (OMB) for review. Any changes to the document that were made in response to OMB comments received by EPA during that review have been documented in the docket as required by the Executive Order.

Since this document does not impose or propose any requirements, and instead seeks comments and suggestions for the Agency to consider in possibly developing a subsequent proposed rule, the various other review requirements that apply when an agency imposes requirements do not apply to this action.

As part of your comments on this document, you may include any comments or information that you have regarding this action. In particular, any comments or information that would help the Agency to assess the potential impact of a rule on small entities pursuant to the Regulatory Flexibility Act (RFA) (5 U.S.C. 601 et seq.); to consider voluntary consensus standards pursuant to section 12(d) of the National Technology Transfer and Advancement Act of 1995 (NTTAA), Public Law 104-113, section 12(d) (15 U.S.C. 272 note); to consider environmental health or safety effects on children pursuant to Executive Order 13045, entitled “Protection of Children from Environmental Health Risks and Safety Risks” (62 FR 19885, April 23, 1997); or to consider human health or environmental effects on minority or low-income populations pursuant to Executive Order 12898, entitled “Federal Actions to Address Environmental Justice in Minority Populations and Low-Income Populations” (59 FR 7629, February 16, 1994). The Agency will consider such comments during the development of any subsequent notice of proposed rulemaking as it takes appropriate steps to address any applicable requirements.

List of Subjects

Environmental protection, Housing, Toxic substances, Wood.

Dated: November 25, 2008.
Stephen L. Johnson,
Administrator.

[FR Doc. E8-28585 Filed 12-2-08; 8:45 am]

BILLING CODE 6560-50-S